DEPARTMENT OF TRANSPORTATION

Federal Transit Administration

Supplemental Environmental Impact Statement on the Central Link Light Rail Transit Project

AGENCY: Federal Transit Administration, DOT.

ACTION: Notice of intent to prepare a Supplemental Environmental Impact Statement (SEIS).

SUMMARY: The Federal Transit Administration (FTA) is issuing this notice to advise the public, tribes and agencies that an SEIS will be prepared to evaluate a new alternative in Tukwila, Washington for the Central Link Light Rail Transit Project. This action is a supplement to the Central Link Light Rail Transit Project Final Environmental Impact Statement (November 1999).

DATES: Agency Scoping Meeting: An agency scoping meeting will be held on: Thursday, August 10, 2000, from 10:30 a.m. to 12:30 p.m., Tukwila Community Center, 12424 42nd Avenue South, Tukwila, WA.

Scoping comments may be submitted after the meeting.

FOR FURTHER INFORMATION CONTACT: John Witmer, Federal Transit Administration, 915 2nd Avenue Suite 3142, Seattle, WA 98174-1002, Telephone: 206-220-7964. James Irish, Sound Transit, 401 South Jackson St., Seattle, WA 98104-2826, Telephone: 206-398-5140

SUPPLEMENTARY INFORMATION: FTA and the Puget Sound Regional Transit Authority (Sound Transit) will prepare an SEIS on a new light rail alternative route in the City of Tukwila known as the Tukwila Freeway Route. The Tukwila Freeway Route alternative was proposed by the City of Tukwila and follows East Marginal Way, State Route 509, Interstate-5, and State Route 518, mostly using an elevated configuration within existing freeway right-of-way. Stations are proposed at (1) Boeing Access Road and (2) South 154th Street, which would include a 670-stall park-and-ride lot. This 5.5 mile alternative route would bypass the adopted route along Tukwila International Boulevard (State Route 99) and be completely within exclusive right-of-way.

Issued on: August 1, 2000.
Linda M. Gehrke,
Federal Transit Administration Deputy Regional Administrator.

[FR Doc. 00-19836 Filed 8-3-00; 8:45 am]

BILLING CODE 4910-51-P